DEPARTMENT OF THE TREASURY

Office of Foreign Assets Control

Sanctions Actions Pursuant to Executive Order 13687

AGENCY: Office of Foreign Assets Control, Department of the Treasury.

ACTION: Notice.

SUMMARY: The Treasury Department's Office of Foreign Assets Control (OFAC) is publishing the names of four individuals and one entity whose property and interests in property are blocked pursuant to E.O. 13687, “Imposing Additional Sanctions With Respect To North Korea.”

DATES: OFAC's actions described in this notice are effective November 13, 2015.

FOR FURTHER INFORMATION CONTACT: The Department of the Treasury's Office of Foreign Assets Control: Assistant Director for Licensing, tel.: 202-622-2480, Assistant Director for Regulatory Affairs, tel.: 202/622-4855, Assistant Director for Sanctions Compliance & Evaluation, tel.: 202/622-2490, or the Department of the Treasury's Office of the Chief Counsel (Foreign Assets Control), Office of the General Counsel, tel.: 202/622-2410.

SUPPLEMENTARY INFORMATION:

Electronic and Facsimile Availability

The Specially Designated Nationals and Blocked Persons List and additional information concerning OFAC sanctions programs are available on OFAC's Web site (www.treasury.gov/ofac). Certain general information pertaining to OFAC's sanctions programs is also available via facsimile through a 24-hour fax-on-demand service, tel.: 202/622-0077.

Notice of OFAC Actions

On November 13, 2015, OFAC blocked the property and interests in property of the following four individuals and one entity pursuant to E.O. 13687, “Imposing Additional Sanctions With Respect To North Korea”:

Individuals

1. KIM, Sok Chol, Burma; DOB 08 May 1955; nationality Korea, North; Passport 472310082; North Korean Ambassador to Burma (individual) [DPRK2].

2. KIM, Kwang Hyok, Burma; DOB 20 Apr 1970; nationality Korea, North; Passport 654210025 (Korea, North); Korean Mining Development Trading Corporation Representative in Burma (individual) [DPRK2] (Linked To: KOREA MINING DEVELOPMENT TRADING CORPORATION).

3. RI, Chong Chol (a.k.a. RI, Jong Chol); DOB 12 Apr 1970; Passport 199110092 (Korea, North) expires 17 Mar 2014; alt. Passport 472220503 (Korea, North) expires 06 Jun 2018; alt. Passport 654220197 (Korea, North) expires 07 May 2019 (individual) [DPRK2] (Linked To: KOREA MINING DEVELOPMENT TRADING CORPORATION).

4. HWANG, Su Man (a.k.a. HWANG, Kyong Nam); DOB 06 Apr 1955; nationality Korea, North; Passport 472220033 (Korea, North) (individual) [DPRK2] (Linked To: KOREA MINING DEVELOPMENT TRADING CORPORATION).

Entity

1. EKO DEVELOPMENT AND INVESTMENT COMPANY (a.k.a. EKO DEVELOPMENT & INVESTMENT FOOD COMPANY; a.k.a. EKO IMPORT AND EXPORT COMPANY), 35 St. Abd al-Aziz al-Sud, al-Manial, Cairo, Egypt [DPRK2].

Dated: November 13, 2015.
Andrea Gacki,
Acting Director, Office of Foreign Assets Control.

[FR Doc. 2015-29431 Filed 11-17-15; 8:45 am]

BILLING CODE 4810-AL-P